ENVIRONMENTAL PROTECTION AGENCY

[FRL-8262-3]

Science Advisory Board Staff Office; EPA Clean Air Scientific Advisory Committee (CASAC); CASAC Ozone Review Panel Notification of a Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Ozone Review Panel (CASAC Panel) to review EPA's Final Review of the National Ambient Air Quality Standards for Ozone: Policy Assessment of Scientific and Technical Information (Final Ozone Staff Paper, January 2007), focusing on Chapter 6 (The Primary O3 NAAQS) and Chapter 8 (The Secondary O3 NAAQS).

DATE: The teleconference meeting will be held on Monday, January 29, 2007, from 1 to 5 p.m. (Eastern Time).

FOR FURTHER INFORMATION CONTACT: Any member of the public who wishes to obtain the teleconference call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web site at http://www.epa.gov/sab.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Ozone Review Panel consists of the seven CASAC members supplemented by subject-matter-experts. The CASAC Ozone Review Panel provides advice and recommendations to EPA concerning ozone and related photochemical oxidants in ambient air. The Panel complies with the provisions of FACA and all appropriate SAB Staff Office procedural policies.

Section 109(d)(1) of the CAA requires that the Agency periodically review and revise, as appropriate, the air quality criteria and the national ambient air quality standards (NAAQS) for the six “criteria” air pollutants, including ambient ozone. Pursuant to sections 108 and 109 of the Act, EPA is in the process of reviewing the ozone NAAQS, which the Agency most recently revised in July 1997. EPA's Office of Air Quality Planning and Standards (OAQPS), within the Office of Air and Radiation (OAR), will publish a Final Ozone Staff Paper as part of its review of the ozone NAAQS. The Final Ozone Staff Paper evaluates the policy implications of the key scientific and technical information contained in the Agency's final Air Quality Criteria for Ozone and Related Photochemical Oxidants, Volumes I, II, and III, (EPA/600/R-05/004aF-cF, February 2006), and identifies critical elements that EPA believes should be considered in its review of the ozone NAAQS. The Ozone Staff Paper is intended to “bridge the gap” between the scientific review contained in the Ozone Air Quality Criteria Document (AQCD) and the public health and welfare policy judgments required of the EPA Administrator in reviewing the ozone NAAQS. EPA solicited advice and recommendations from the CASAC Panel on the First Draft Ozone Staff Paper (November 2005) in a public meeting on December 8, 2005, in Durham, NC. The CASAC's letter to the EPA Administrator (EPA-CASAC-CON-06-003, dated February 16, 2006) is posted on the SAB Web Site at http://www.epa.gov/sab/pdf/casac_con_06_003.pdf. In addition, EPA solicited the Panel's advice and recommendations on the Second Draft Ozone Staff Paper (July 2006) in a public meeting on August 24-25, 2006, in Durham, NC. The CASAC's letter to the Administrator (EPA-CASAC-07-001, dated October 24, 2006) is posted on the SAB Web site at http://www.epa.gov/sab/pdf/casac-07-001.pdf. In that letter, the CASAC indicated it would review the Agency's Final Ozone Staff Paper and offer additional, unsolicited advice to the Agency on Chapter 6 (The Primary O3 NAAQS) and Chapter 8 (The Secondary O3 NAAQS). The purpose of such advice is to advise EPA as it develops a proposed rule for ozone and related photochemical oxidants. This teleconference meeting continues the CASAC Ozone Review Panel's advisory activities in the current review cycle for the ozone NAAQS.

Technical Contact: Any questions concerning the Agency's Final Ozone Staff Paper should be directed to Dr. Dave McKee, OAQPS, at phone: (919) 541-5288, or e-mail: mckee.dave@epa.gov.

Availability of Meeting Materials: The Final Ozone Staff Paper will be posted on or about January 5, 2007 on the Agency's Technology Transfer Network (TTN) Web site at http://www.epa.gov/ttn/naaqs/standards/ozone/s_o3_index.html. The document may be accessed in the “Documents for Current Review” section under “Staff Papers.” A copy of the draft agenda and other materials for this CASAC teleconference will be posted on the SAB Web site at: http://www.epa.gov/sab/panels/casacorpanel.html prior to the meeting.

Procedures for Providing Public Input: Interested members of the public may submit relevant written or oral information for the CASAC Ozone Review Panel to consider during the advisory process. Oral Statements: In general, individuals or groups requesting an oral presentation at a public teleconference will be limited to three minutes per speaker, with no more than a total of 30 minutes for all speakers. Interested parties should contact Mr. Butterfield, CASAC DFO, in writing (preferably via e-mail), by January 22, 2007, at the contact information noted above, to be placed on the list of public speakers for this meeting. Written Statements: Written statements should be received in the SAB Staff Office by January 26, 2007, so that the information may be made available to the CASAC Panel for their consideration prior to this teleconference. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: December 19, 2006.
Vanessa Vu,
Director, EPA Science Advisory Board Staff Office.

[FR Doc. E6-22146 Filed 12-26-06; 8:45 am]

BILLING CODE 6560-50-P